DEPARTMENT OF COMMERCE

International Trade Administration

[A-351-849, A-580-890, A-201-848, A-455-805]

Emulsion Styrene-Butadiene Rubber From Brazil, the Republic of Korea, Mexico, and Poland: Postponement of Preliminary Determination of Sales at Less Than Fair Value Investigations

AGENCY: Enforcement and Compliance, International Trade Administration, Department of Commerce.

DATES: Effective November 25, 2016.

FOR FURTHER INFORMATION CONTACT: Drew Jackson at (202) 482-4406 (Brazil); Carrie Bethea at (202) 482-1491 (the Republic of Korea (Korea)); Julia Hancock at (202) 482-1394 (Mexico); and Stephen Bailey at (202) 482-0193 (Poland), Enforcement and Compliance, International Trade Administration, U.S. Department of Commerce, 1401 Constitution Avenue NW., Washington, DC 20230.

SUPPLEMENTARY INFORMATION:

Postponement of Preliminary Determinations

On August 10, 2016, the Department of Commerce (the Department) initiated the antidumping duty investigations of imports of emulsion styrene-butadiene rubber (ESB Rubber) from Brazil, Korea, Mexico, and Poland.¹ The notice of initiation stated that, in accordance with section 733(b)(1)(A) of the Tariff Act of 1930, as amended (the Act), and 19 CFR 351.205(b)(1), we would issue our preliminary determinations no later than 140 days after the date of initiation, unless postponed. Currently, the preliminary determinations in these investigations are due no later than December 28, 2016.

¹ See Emulsion Styrene-Butadiene Rubber From Brazil, the Republic of Korea, Mexico, and Poland: Initiation of Less-Than-Fair-Value Investigations, 81 FR 55438 (August 19, 2016).

On November 7, 2016, Lion Elastomers and East West Copolymer (Petitioners), made a timely request, pursuant to 19 CFR 351.205(e), for postponement of the preliminary determinations, in order to facilitate the Department's analysis of respondents' questionnaire responses in each investigation. Because there are no compelling reasons to deny the request, pursuant to section 733(c)(1)(A) of the Act, the Department is postponing the deadline for the preliminary determinations by 50 days.²

² See Letter to the Secretary of Commerce from Petitioners entitled “Request to Extend the Preliminary Determinations,” dated November 7, 2016.

For the reasons stated above, the Department, in accordance with section 733(c)(1)(A) of the Act, is postponing the deadline for the preliminary determinations to no later than 190 days after the date on which the Department initiated these investigations. Therefore, the new deadline for the preliminary determinations is February 16, 2017. In accordance with section 735(a)(1) of the Act, the deadline for the final determination of this investigation will continue to be 75 days after the date of the preliminary determination, unless postponed at a later date.

This notice is issued and published pursuant to section 733(c)(2) of the Act and 19 CFR 351.205(f)(1).

Dated: November 16, 2016.
Paul Piquado,
Assistant Secretary for Enforcement and Compliance.

[FR Doc. 2016-28365 Filed 11-23-16; 8:45 am]

BILLING CODE 3510-DS-P